DEPARTMENT OF TRANSPORTATION

Federal Aviation Administration

14 CFR Part 73

[Docket No. FAA-2003-16531; Airspace Docket No. 96-ASO-10]

RIN 2120-AA66

Modification and Revocation of Restricted Areas R-3007A, B, C, D, and E; Townsend, GA

AGENCY: Federal Aviation Administration (FAA), DOT.

ACTION: Final rule.

SUMMARY: This action reconfigures Restricted Areas R-3007A, B, C, and D, and revokes Restricted Area R-3007E, Townsend, GA, by reducing the lateral size, increasing the vertical limits, and by increasing the time of designation of the restricted airspace by six hours per day. The FAA is taking this action to better accommodate Department of Defense (DOD) training requirements and to eliminate restricted airspace that is no longer needed by the military. Additionally, the name of the using agency for all R-3007 subareas is changed to reflect the current organizational title. This action also makes a minor correction to the latitude/longitude positions of two points in the descriptions of R-3007B and R-3007C.

DATES: Effective 0901 UTC, August 3, 2006.

FOR FURTHER INFORMATION CONTACT: Paul Gallant, Airspace and Rules, Office of System Operations Airspace and AIM, Federal Aviation Administration, 800 Independence Avenue, SW., Washington, DC 20591; telephone: (202) 267-8783.

SUPPLEMENTARY INFORMATION:

Background

On December 5, 1996, the FAA published in the Federal Register a notice of proposed rulemaking (NPRM) to reconfigure the existing restricted airspace at Townsend Range, Georgia, by reducing the lateral size, increasing the vertical limits, increasing the time of designation of the restricted areas by six hours per day, and changing the name of the using agency to reflect the current organizational title (61 FR 64494). Interested parties were invited to participate in this rulemaking effort by submitting written comments on the proposal to the FAA. The FAA received no comments in response to the proposal. Further action on the proposal was then deferred pending the completion of additional environmental studies by the proponent. As a result of this delay, the FAA published a supplemental notice of proposed rulemaking on February 3, 2004, to readvertise the proposal and invite additional comment (69 FR 5099). One comment, expressing support for the proposed action, was received in response to the supplemental notice.

Restricted Areas are published in subpart B of FAA Order 7400.8M, dated January 6, 2006 and effective February 16, 2006, which is incorporated by reference in 14 CFR 73. The Restricted Areas listed in this document will be published subsequently in the Order.

The Rule

This action amends Title 14 Code of Federal Regulations (14 CFR) part 73 to reconfigure restricted areas R-3007A, B, C, D, and E, at the Townsend Range, Georgia, to better accommodate Department of Defense training requirements, eliminate restricted airspace no longer needed for military training, and enable the more efficient use of airspace. This amendment eliminates all of the restricted airspace currently described as R-3007A and approximately one half of the restricted airspace currently described as R-3007B. The remaining Townsend Range restricted airspace is redescribed as three subareas: R-3007A, B, and C. A new restricted area, designated R-3007D, is established directly above R-3007A, B, and C. The designation R-3007E is no longer needed and is revoked.

Specifically, R-3007A is revised to describe the circular surface target area that is currently designated as R-3007E. The designation R-3007E is revoked. The subarea currently designated as R-3007D is redescribed as R-3007B. The existing subarea R-3007C is revised to retain its original area, plus incorporate the remaining portion of the former R-3007B subarea.

New restricted airspace is established above the revised R-3007A, B, and C subareas. This new area, designated R-3007D, extends from 13,000 feet above mean sea level (MSL) to flight level (FL) 250. The purpose of R-3007D is to raise the ceiling of the Townsend Range from the current 13,000 feet MSL, to FL 250, in order to accommodate high altitude, high angle weapons delivery training. The existing 13,000 feet MSL ceiling at Townsend Range precludes the conduct of this essential training at the Range. This rule also increases the time of designation for the revised Townsend Range complex by six hours per day from the current “Monday-Friday, 0800-1700 local time; other times by NOTAM at least 24 hours in advance” to “Monday-Friday, 0700-2200 local time; other times by NOTAM at least 24 hours in advance.” This change permits more flexible range utilization and accommodates increased night training requirements. Finally, the using agency name for all subareas is changed from “Savannah Air National Guard Training Site, Garden City, GA” to “ANG, Savannah Combat Readiness Training Center, GA” to reflect the current organizational name. The Townsend Range complex will be joint-use airspace. The restricted areas will be returned to the controlling agency on a real-time basis when not required for military activities. All flight operations in the Range will be subsonic.

In addition, this amendment makes a minor correction to two points in the descriptions of R-3007B and R-3007C, respectively. The point published in the NPRM as 31°33′16″ N., long. 81°31′14″ W., is corrected to lat. 31°33′18″ N., long. 81°31′13″ W. The point published as 31°31′16″ N., long. 81°31′59″ W., is corrected to lat. 31°31′26″ N., long. 81°31′58″ W. These corrections are the result of a more accurate plot of the airspace boundaries.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

In November 1995, the Air National Guard (ANG) issued a Final Environmental Impact Statement (FEIS) for the “Proposed Wing Conversion and Modification to Airspace in Southeastern Georgia.” On January 3, 1996, the ANG issued a Record of Decision (ROD). In 2005, due to the lapse in time since issuance of the 1995 FEIS and 1996 ROD, the ANG prepared a Supplemental Environmental Assessment (SEA) in accordance with the National Environmental Policy Act (NEPA), as amended, of the proposed reconfiguration of R-3007 and a separate nonrulemaking proposal to modify military operations areas (MOA) in southeastern Georgia. The nonrulemaking proposal involves the revocation of the existing Quick Thrust and Gator MOAs and the establishment of the Coastal MOAs, which will take effect concurrent with the effective date of this rule. The SEA process included both the rulemaking and nonrulemaking proposed actions. The FAA participated in the SEA process as a Cooperating Agency. The ANG provided a 30-day public comment period on the draft SEA, which ended on November 20, 2005. They received no comments. The ANG then issued a Final SEA and Finding of No Significant Impact (FONSI) on December 22, 2005.

Pursuant to FAA Order 1050.1E, “Environmental Impacts: Polices and Procedures,” the FAA conducted an independent review of the Final SEA. On March 2, 2006, in accordance with paragraph 404d in the Order, the FAA adopted the December 2005 Final SEA, and in accordance with paragraph 406 in the Order, the FAA issued a FONSI. The FONSI signifies that the FAA will not prepare an environmental impact statement and has completed the NEPA process for the proposed actions.

List of Subjects in 14 CFR Part 73

Airspace, Navigation (air).

The Adoption of the Amendment

In consideration of the foregoing, the Federal Aviation Administration will amend 14 CFR part 73 as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.30 [Amended]

2. Section 73.30 is amended as follows:

* * * * *

R-3007A Townsend, GA [Revised]

Boundaries. A circular area with a 1.5-mile radius centered at lat. 31°33′16″ N., long. 81°34′44″ W.

Designated altitudes. Surface to but not including 13,000 feet MSL.

Time of designation. 0700-2200 local time, Monday-Friday; other times by NOTAM at least 24 hours in advance.

Controlling agency. FAA, Jacksonville ARTCC.

Using agency. ANG, Savannah Combat Readiness Training Center, GA.

R-3007B Townsend, GA [Revised]

Boundaries. Beginning at lat. 31°38′01″ N., long. 81°28′59″ W.; to lat. 31°37′31″ N., long. 81°28′14″ W.; to lat. 31°32′31″ N., long. 81°27′29″ W.; to lat. 31°26′16″ N., long. 81°31′29″ W.; to lat. 31°25′31″ N., long. 81°35′59″ W.; to lat. 31°27′26″ N., long. 81°33′39″ W.; to lat. 31°31′26″ N., long. 81°31′58″ W.; thence clockwise along a 1 NM radius arc from a point centered at lat. 31°32′26″ N., long. 81°31′49″ W.; to lat. 31°33′18″ N., long. 81°31′13″ W.; to the point of beginning.

Designated altitudes. 1,200 feet AGL to but not including 13,000 feet MSL.

Time of designation. 0700-2200 local time, Monday-Friday; other times by NOTAM at least 24 hours in advance.

Controlling agency. FAA, Jacksonville ARTCC.

Using agency. ANG, Savannah Combat Readiness Training Center, GA.

R-3007C Townsend, GA [Revised]

Boundaries. Beginning at lat. 31°38′01″ N., long. 81°46′59″ W.; to lat. 31°42′31″ N., long. 81°33′59″ W.; to lat. 31°38′01″ N., long. 81°28′59″ W.; to lat. 31°33′18″ N., long. 81°31′13″ W.; thence counterclockwise along a 1 NM radius arc from a point centered at lat. 31°32′26″ N., long. 81°31′49″ W.; to lat. 31°31′26″ N., long. 81°31′58″ W.; to lat. 31°27′26″ N., long. 81°33′39″ W.; to lat. 31°25′31″ N., long. 81°35′59″ W.; thence west along the Altamaha River to the point of beginning; excluding R-3007A.

Designated altitudes. 100 feet AGL to but not including 13,000 feet MSL.

Time of designation. 0700-2200 local time, Monday-Friday; other times by NOTAM at least 24 hours in advance.

Controlling agency. FAA, Jacksonville ARTCC.

Using agency. ANG, Savannah Combat Readiness Training Center, GA.

R-3007D Townsend, GA [Revised]

Boundaries. Beginning at lat. 31°38′01″ N., long. 81°46′59″ W.; to lat. 31°42′31″ N., long. 81°33′59″ W.; to lat. 31°38′01″ N., long. 81°28′59″ W.; to lat. 31°37′31″ N., long. 81°28′14″ W.; to lat. 31°32′31″ N., long. 81°27′29″ W.; to lat. 31°26′16″ N., long. 81°31′29″ W.; to lat. 31°25′31″ N., long. 81°35′59″ W.; thence northwest along the Altamaha River to the point of beginning.

Designated altitudes. 13,000 feet MSL to FL 250.

Time of designation. 0700-2200 local time, Monday-Friday; other times by NOTAM at least 24 hours in advance.

Controlling agency. FAA, Jacksonville ARTCC.

Using agency. ANG, Savannah Combat Readiness Training Center, GA.

R-3007E Townsend, GA [Revoked]

* * * * *

Issued in Washington, DC, on May 12, 2006.
Edith V. Parish,
Manager, Airspace and Rules.

[FR Doc. 06-4734 Filed 5-19-06; 8:45 am]

BILLING CODE 4910-13-P